DEPARTMENT OF THE TREASURY

Internal Revenue Service

Software Developers Conference

AGENCY: Internal Revenue Service (IRS), Treasury.

ACTION: Software Developers Conference Notification.

SUMMARY: The Software Developers Conference will be held on June 3-4, 2004. The conference will be held in the Ritz-Carlton Pentagon City Hotel in Arlington, VA. Listed is a summary of the agenda along with the planned discussion topics.

Summarized Agenda for June 3-4, 2004

8 a.m.—Conference Begins

12 noon—Break for Lunch

1 p.m.—Conference Resumes

4:30 p.m.—Conference Adjourns

The planned discussion topics are:

(1) Modernized e-File (MeF)

(2) Electronic Return Originator (ERO) Application

(3) e-Services

(4) IRS Servicewide e-Strategy

(5) 2-D Barcoding

Note: Last minute changes to these topics are possible and could prevent advance notice.

DATES: There will be a Software Developers Conference on Thursday and Friday, June 3 and 4, 2004. This conference will be held in a room that accommodates approximately 200 people, including IRS officials.

ADDRESSES: The meeting will be held in the Ritz-Carlton Pentagon City Hotel, 1250 South Hayes Street, Arlington, VA 22202.

FOR FURTHER INFORMATION CONTACT: Registration for the Software Developers Conference may be accessed at http://www.eventhotline.com/irs. Participants should register on-line for the conference by June 2, 2004.

If you need additional information you may contact Kim Logan at (202) 283-1947 or send an e-mail to kim.a.logan@irs.gov.

SUPPLEMENTARY INFORMATION: The IRS Software Developers Conference provides information and dialogue on issues of interest to IRS e-file software developers.

Dated: March 23, 2004.
Jo Ann N. Bass,
Acting Director, Electronic Tax Administration.

[FR Doc. 04-7517 Filed 4-1-04; 8:45 am]

BILLING CODE 4830-01-P